DEPARTMENT OF TRANSPORTATION

Federal Aviation Administration

14 CFR Part 39

[Docket No. FAA-2005-21109; Directorate Identifier 2005-CE-21-AD]

RIN 2120-AA64

Airworthiness Directives; The Cessna Aircraft Company Models 525, 525A, and 525B Airplanes

AGENCY: Federal Aviation Administration (FAA), DOT.

ACTION: Notice of proposed rulemaking (NPRM).

SUMMARY: The FAA proposes to adopt a new airworthiness directive (AD) for certain The Cessna Aircraft Company (Cessna) Models 525, 525A, and 525B airplanes. This proposed AD would require you to install identification sleeves on the wiring for both engine fire extinguisher bottles. This proposed AD results from reports of incorrectly connecting the wires to the engine fire extinguisher bottles. We are issuing this proposed AD to prevent incorrect installation of the wires to the engine fire extinguisher bottles, which could result in failure of the engine fire extinguisher bottles to discharge when activated. This failure could lead to the inability to control an engine fire.

DATES: We must receive any comments on this proposed AD by July 19, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact The Cessna Aircraft Company, Citation Marketing Division, Product Support P.O. Box 7706, Wichita, Kansas 67277; telephone: (316) 517-6000; facsimile: (316) 517-8500.

To view the comments to this proposed AD, go to http://dms.dot.gov. The docket number is FAA-2005-21109; Directorate Identifier 2005-CE-21-AD.

FOR FURTHER INFORMATION CONTACT: James P. Galstad, Aerospace Engineer, FAA, Wichita ACO, 1801 Airport Road, Mid-Continent Airport, Wichita, Kansas 67209; telephone: (316) 946-4135; facsimile: (316) 946-4107.

SUPPLEMENTARY INFORMATION:

Comments Invited

How do I comment on this proposed AD? We invite you to submit any written relevant data, views, or arguments regarding this proposal. Send your comments to an address listed under ADDRESSES. Include the docket number, “FAA-2005-21109; Directorate Identifier 2005-CE-21-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-21109; Directorate Identifier 2005-CE-21-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? Wires connected to the engine fire extinguisher bottles on Cessna Models 525B and 560XL airplane were found reversed. Installing the wiring in an incorrect configuration resulted from a lack of clarity in the wiring schematics for connecting the wires and testing the connections.

The same lack of clarity in the wiring schematics for connecting the wires and testing the connections also exists for Cessna Models 525 and 525A airplanes.

An incorrect wiring configuration installation could go undetected because the existing circuit checks appear normal during routine checks. However, the engine fire extinguisher bottles will not discharge when activated.

What is the potential impact if FAA took no action? If not detected and corrected, incorrect wiring of the engine fire extinguisher bottles could result in failure of the engine fire extinguisher bottles to discharge when activated. This failure could lead to the inability to control an engine fire.

Is there service information that applies to this subject? Cessna has issued the following service bulletins:

—Citation Service Bulletin SB525-26-01, dated April 5, 2005;

—Citation Service Bulletin SB525A-26-02, dated April 5, 2005; and

—Citation Service Bulletin SB525B-26-01, dated April 5, 2005.

What are the provisions of this service information? These service bulletins include procedures for:

—Installing identification sleeves on wires connecting to the engine fire extinguisher bottles;

—Reconnecting the wires to the engine fire extinguisher bottles; and

—Testing the wiring for correct installation.

FAA's Determination and Requirements of This Proposed AD

What has FAA decided? We have evaluated all pertinent information and identified an unsafe condition that is likely to exist or develop on other products of this same type design. For this reason, we are proposing AD action.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 578 airplanes in the U.S. registry.

What would be the cost impact of this proposed AD on owners/operators of the affected airplanes? We estimate the following costs to accomplish this proposed modification:

Labor cost | Parts cost | Total cost per airplane | Total cost on U.S. operators
4 workhours × $65 per hour = $260 | Not applicable | $260.00 | $260 × 578 = $150,280.

Cessna will provide warranty credit for the modification to the extent stated in the supplemental data to the service information.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the National Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-21109; Directorate Identifier 2005-CE-21-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Cessna Aircraft Company: Docket No. FAA-2005-21109; Directorate Identifier 2005-CE-21-AD

When Is the Last Date I Can Submit Comments on This Proposed AD?

(a) We must receive comments on this proposed airworthiness directive (AD) by July 19, 2005.

What Other ADs Are Affected by This Action?

(b) None.

What Airplanes Are Affected by This AD?

(c) This AD affects the following airplane models and serial numbers that are certificated in any category:

Model | Serial Nos.
525 | 525-0001 through 525-0600.
525A | 525A-0001 through 525A-0234.
525B | 525B-0001 through 525B-0035.

What Is the Unsafe Condition Presented in This AD?

(d) This AD is the result of reports about the possibility to incorrectly connect the wires to the engine fire extinguisher bottles. The actions specified in this AD are intended to prevent incorrect installation of the wires to the engine fire extinguisher bottles, which could result in failure of the engine fire extinguisher bottles to discharge when activated. This failure could lead to the inability to control an engine fire.

What Must I Do To Address This Problem?

(e) To address this problem, you must do the following:

Actions | Compliance | Procedures
(1) Install identification sleeves on the wires for both engine fire extinguisher bottles | Within the next 60 days or 100 hours time-in-service after the effective date of this AD, whichever occurs first | Follow the Accomplishment Instructions in: (i) Cessna Citation Service Bulletin SB525-26-01; (ii) Cessna Citation Service Bulletin SB525A-26-02; or (iii) Cessna Citation Service Bulletin SB525B-26-01, all dated April 5, 2005, as applicable.
(2) Reconnect the wires to both engine fire extinguisher bottles | Prior to further flight after the sleeve installation required in paragraph (e)(1) of this AD | Use the service information in paragraphs (e)(1)(i) through (e)(1)(iii) of this AD
(3) Test the wires for correct installation | Prior to further flight after reconnecting the wires as required in paragraph (e)(2) of this AD. | Use the service information in paragraphs (e)(1)(i) through (e)(1)(iii) of this AD.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact James P. Galstad, Aerospace Engineer, FAA Wichita ACO, 1801 Airport Road, Mid-Continent Airport, Wichita, Kansas 67209; telephone: (316) 946-4135; facsimile: (316) 946-4107.

May I Get Copies of the Documents Referenced in This AD?

(g) To get copies of the documents referenced in this AD, contact The Cessna Aircraft Company, Citation Marketing Division, Product Support P.O. Box 7706, Wichita, Kansas 67277; telephone: (316) 517-6000; facsimile: (316) 517-8500. To view the AD docket, go to the Docket Management Facility; U.S. Department of Transportation, 400 Seventh Street, SW., Nassif Building, Room PL-401, Washington, DC, or on the Internet at http://dms.dot.gov. The docket number is Docket No. FAA-2005-21109; Directorate Identifier 2005-CE-21-AD.

Issued in Kansas City, Missouri, on May 12, 2005.
Kim Smith,
Acting Manager, Small Airplane Directorate, Aircraft Certification Service.

[FR Doc. 05-9988 Filed 5-18-05; 8:45 am]

BILLING CODE 4910-13-P